DEPARTMENT OF THE INTERIOR

Fish and Wildlife Service

[FWS-R4-NWRS-2018-N132; FXRS1263040000-156-FF04R08000; OMB Control Number 1018-0153]

Agency Information Collection Activities; Submission to the Office of Management and Budget for Review and Approval; National Wildlife Refuge Visitor Check-In Permit and Use Report

AGENCY: Fish and Wildlife Service, Interior.

ACTION: Notice of information collection; request for comment.

SUMMARY: In accordance with the Paperwork Reduction Act of 1995, we, the U.S. Fish and Wildlife Service, are proposing to renew an information collection.

DATES: Interested persons are invited to submit comments on or before January 14, 2019.

ADDRESSES: Send written comments on this information collection request (ICR) to the Office of Management and Budget's Desk Officer for the Department of the Interior by email at OIRA_Submission@omb.eop.gov; or via facsimile to (202) 395-5806. Please provide a copy of your comments to the Service Information Collection Clearance Officer, U.S. Fish and Wildlife Service, MS: BPHC, 5275 Leesburg Pike, Falls Church, VA 22041-3803 (mail); or by email to Info_Coll@fws.gov. Please reference OMB Control Number 1018-0153 in the subject line of your comments.

FOR FURTHER INFORMATION CONTACT: To request additional information about this ICR, contact Madonna L. Baucum, Service Information Collection Clearance Officer, by email at Info_Coll@fws.gov, or by telephone at (703) 358-2503. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

On June 11, 2018, we published a Federal Register notice requesting comments on this collection of information (83 FR 27017). In that notice, we invited comments for 60 days, ending on August 10, 2018. We received one comment that did not address the information collection requirements. We made no changes in response to that comment.

We are again soliciting comments on the proposed ICR that is described below. We are especially interested in public comment addressing the following issues: (1) Is the collection necessary to the proper functions of the Service; (2) will this information be processed and used in a timely manner; (3) is the estimate of burden accurate; (4) how might the Service enhance the quality, utility, and clarity of the information to be collected; and (5) how might the Service minimize the burden of this collection on the respondents, including through the use of information technology.

Comments that you submit in response to this notice are a matter of public record. Before including your address, phone number, email address, or other personal identifying information in your comment, you should be aware that your that your entire comment—including your personal identifying information—may be publicly available at any time. While you can ask us in your comment to withhold your personal identifying information from public review, we cannot guarantee that we will be able to do so.

Abstract: The National Wildlife Refuge System Administration Act of 1966 (16 U.S.C. 668dd-668ee), as amended by the National Wildlife Refuge System Improvement Act of 1997, and the Refuge Recreation Act of 1962 (16 U.S.C. 460k-460k-4), govern the administration and uses of national wildlife refuges and wetland management districts. The Administration Act authorizes us to permit public uses, including hunting and fishing, on lands of the Refuge System when we find that the activity is compatible and appropriate with the purpose for which the refuge was established. The Recreation Act allows the use of refuges for public recreation when the use is not inconsistent or does not interfere with the primary purpose(s) of the refuge.

We use FWS Form 3-2405 (Self-Clearing Check-In Permit) to collect user information on hunting and fishing on refuges. This form offers a self-check-in feature not found on other similar forms, reducing the number of staffed check-in stations. We found this method increases game harvest reporting and provides better estimates of total numbers of game harvested. This form also requests users to report other species observed, data then used by refuge staff and state agencies for managing wildlife populations. Not all refuges will use this form and some refuges may collect the identical information in a nonform format (meaning there is no designated form associated with the collection of information). We collect:

• Information on the visitor (name, address, and contact information). We use this information to identify the visitor or driver/passengers of a vehicle while on the refuge. Having this information readily available is critical in a search and rescue situation. We do not maintain or record this information.

• Information on whether or not hunters/anglers were successful (number and type of harvest/caught).

• Purpose of visit (hunting, fishing, wildlife observation, wildlife photography, auto touring, birding, hiking, boating/canoeing, visitor center, special event, environmental education class, volunteering, other recreation).

• Species observed.

• Date of visit.

The above information is a vital tool in meeting refuge objectives and maintaining quality visitor experiences. It helps us:

• Administer and monitor the quality of visitor programs and facilities on refuges.

• Minimize resource disturbance, manage healthy game populations, and ensure the protection of fish and wildlife species through the check-in/out process.

• Assist in Statewide wildlife management and enforcement and develop reliable estimates of the number of key game fish and wildlife, like the Louisiana black bear (a recently delisted species).

• Determine facility and program needs and budgets based on user demand for resources.

Title of Collection: National Wildlife Refuge Visitor Check-In Permit and Use Report.

OMB Control Number: 1018-0153.

Form Number: 3-2405.

Type of Review: Extension of a currently approved collection.

Respondents/Affected Public: Individuals who visit national wildlife refuges.

Total Estimated Number of Annual Respondents: 650,000.

Total Estimated Number of Annual Responses: 650,000.

Estimated Completion Time per Response: 5 minutes.

Total Estimated Number of Annual Burden Hours: 54,167.

Respondent's Obligation: Required to Obtain or Retain a Benefit.

Frequency of Collection: On occasion.

Total Estimated Annual Nonhour Burden Cost: None.

An agency may not conduct or sponsor and a person is not required to respond to a collection of information unless it displays a currently valid OMB control number.

The authority for this action is the Paperwork Reduction Act of 1995 (44 U.S.C. 3501 et seq.).

Dated: December 10, 2018.
Madonna Baucum,
Information Collection Clearance Officer, U.S. Fish and Wildlife Service.

[FR Doc. 2018-26991 Filed 12-12-18; 8:45 am]

BILLING CODE 4333-15-P